DEPARTMENT OF ENERGY

Federal Energy Regulatory Commission

Combined Notice of Filings #1

Take notice that the Commission received the following electric rate filings:

Docket Numbers: ER14-1470-001.

Applicants: Midcontinent Independent System Operator Inc., Ameren Illinois Company.

Description: 2014-06-09_Ameren-White Oak Facilities Service Agreement Compliance Filing to be effective 5/11/2014.

Filed Date: 6/9/14.

Accession Number: 20140609-5108.

Comments Due: 5 p.m. ET 6/30/14.

Docket Numbers: ER14-2155-000.

Applicants: PJM Interconnection, L.L.C.

Description: Queue Position Y1-069, Original Service Agreement No. 3876 to be effective 5/9/2014.

Filed Date: 6/9/14.

Accession Number: 20140609-5168.

Comments Due: 5 p.m. ET 6/30/14.

Take notice that the Commission received the following electric reliability filings:

Docket Numbers: RR14-4-000.

Applicants: North American Electric Reliability Corp.

Description: North American Electric Reliability Corporation's Report of Comparisons of Budgeted to Actual Costs for 2013 for NERC and the Regional Entities.

Filed Date: 5/30/14.

Accession Number: 20140530-5371.

Comments Due: 5 p.m. ET 6/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2014.
Kimberly D. Bose,
Secretary.

[FR Doc. 2014-14136 Filed 6-16-14; 8:45 am]

BILLING CODE 6717-01-P